DEPARTMENT OF DEFENSE

Office of the Secretary

Renewal of the Department of Defense Historical Advisory Committee

AGENCY: Department of Defense.

ACTION: Notice.

SUMMARY: The Department of Defense Historical Advisory Committee was renewed, effective January 23, 2000, in consonance with the public interest, and in accordance with the provisions of the “Federal Advisory Committee Act.”

The DoD Historical Advisory Committee consists of three subcommittees (Historical Records Declassification Advisory Panel, the Department of the Army's Historical Advisory Subcommittee, and the Secretary of the Navy's Subcommittee on Naval History) which advise the Office of the Secretary of Defense and the Secretaries of the Army and Navy regarding the professional standards, historical methodology, program priorities, liaison with professional groups, and adequacy of resources associated with Department of Defense historical programs.

The DoD Historical Advisory Committee will continue to be well balanced in terms of the interests groups represented and functions to be performed. The forty-two members include distinguished representatives from academia, current U.S. Government and private sector historians, authors and librarians, and retired general officers of general/flag rank.

FOR FURTHER INFORMATION: Contact Ms. Jennifer Spaeth, DoD Committee Management Officer, 703-695-4281.

Dated: February 11, 2000.
L.M. Bynum,
Alternate OSD Federal Register Liaison Officer, Department of Defense.

[FR Doc. 00-3735 Filed 2-16-00; 8:45 am]

BILLING CODE 5000-10-M